SMALL BUSINESS ADMINISTRATION

Data Collection Available for Public Comments

ACTION: 60 Day Notice and request for comments.

SUMMARY: In accordance with the Paperwork Reduction Act of 1995, this notice announces the Small Business Administration's intentions to request approval on a new and/or currently approved information collection.

DATES: Submit comments on or before May 10, 2013.

ADDRESSES: Send all comments regarding whether this information collection is necessary for the proper performance of the function of the agency, whether the burden estimates are accurate, and if there are ways to minimize the estimated burden and enhance the quality of the collections, to Carol Fendler, System Accountant, Office of Investment, Small Business Administration, 409 3rd Street, 6th Floor, Washington, DC 20416.

FOR FURTHER INFORMATION CONTACT: Carol Fendler, System Accountant, 202-205-7559 carol.fendler@sba.gov Curtis B. Rich, Management Analyst, 202-205-7030 curtis.rich@sba.gov.

SUPPLEMENTARY INFORMATION:

Title: “SBIC Management Questionnaire & License Application; Exhibits to SBIC License Application/Management Assessment Questionnaire”

Abstract: SBA Forms 2181, 2182 and 2183 provide SBA with the necessary information to make informed and proper decisions regarding the approval or denial of an applicant for a small business investment company (SBIC) license. SBA uses this information to assess an applicant's ability to successfully operate an SBIC within the scope of the Small Business Investment Act, as amended.

Description of Respondents: Small Business Owners and Farmers.

Form Numbers: 2181, 2182, 2183.

Annual Responses: 425.

Annual Burden: 7,167.

Curtis Rich,
Management Analyst.

[FR Doc. 2013-05542 Filed 3-8-13; 8:45 am]

BILLING CODE P